DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 65 FR 70358-9, dated November 22, 2000).

This notice reflects the functional changes in the Division of Interdisciplinary and Community Based Programs (RPE), and the Division of Public Health and Allied Health (RPB), Bureau of Health Professions (RP).

Make the following changes:

1. Delete the functional statement for the Division of Interdisciplinary and Community Based Programs in its entirety and replace with the following:

Division of Interdisciplinary and Community Based Programs (RPE)

Serves as the principal focal point for specialized DHHS interagency projects, HRSA initiatives and Bureau of Health Professions interdivisional activities. Specifically: (1) Promotes, designs, supports and administers activities relating to the planning and development of nationally integrated health professions education programs; (2) administers special projects of the Office of the Secretary, such as the primary Care Policy Fellowship Program and the Secretary's Award Program for Innovations in Health Promotion and Disease Prevention; (3) promotes, plans and develops collaborative, interdisciplinary activities in the speciality areas of behavioral/mental health, rural health, geriatrics and the associated health professions, including veterinary medicine, optometry, and pharmacy; allied health professions, including physical therapy, occupational therapy, medical technology, dental hygiene, respiratory therapy, radiography, radiation therapy, emergency medical technicians, and a long list of similar professionals; chiropractic health care; social workers, especially in medical settings; clinical psychology; mental health workers; and other new and developing health disciplines; (4) promotes quality improvement in health professions education through collaboration and partnerships with national and international institutes and centers for quality improvement; (5) promotes and supports academic-community partnerships whose goal is the development of interdisciplinary, community-based programs designed to improve access to health care through improving the quality of health professions education and training; (6) collaborates with relevant offices of the Bureau, HRSA and the Department; and (7) maintains liaison with related professional groups, foundations, and other private and government organizations as needed.

2. Abolish the Division of Public Health and Allied Health. These functions are being redistributed within the bureau.

Delegations of Authority

All delegations and redelegations of authority which were in effect immediately prior to the effective date hereof have been continued in effect in them or their successors pending further redelegations.

This reorganization is effective upon date of signature.

Dated: January 7, 2001.
Claude Earl Fox,
Administrator.

[FR Doc. 01-2587 Filed 1-30-01; 8:45 am]

BILLING CODE 4160-15-P